COMMODITY FUTURES TRADING COMMISSION

Agency Information Collection Activities Under OMB Review

AGENCY: Commodity Futures Trading Commission.

ACTION: Notice.

SUMMARY: In compliance with the Paperwork Reduction Act (44 U.S.C. 3501 et seq.), this notice announces that the Information Collection Request (ICR) abstracted below has been forwarded to the Office of Management and Budget (OMB) for review and comment. The ICR describes the nature of the information collection and its expected costs and burden; it includes the actual data collection instruments [if any].

DATES: Comments must be submitted on or before April 28, 2008.

FOR FURTHER INFORMATION OR A COPY CONTACT: Gary Martinaitis, Division of Market Oversight, Commodity Futures Trading Commission, 1155 21st Street, NW., Washington, DC 20581, (202) 418-5209; Fax: (202) 418-5527; e-mail: gmartinaitis @cftc.gov and refer to OMB Control No. 3038-0013.

SUPPLEMENTARY INFORMATION: Title: Exemptions from Speculative Limits (OMB Control No. 3038-0013). This is a request for extension of a currently approved information collection.

Abstract: Commission regulations 1.47, 1.48, and 150.3(b) require limited information from traders whose commodity futures and options positions exceed federal speculative position limits. The regulations are designed to assist in the monitoring of compliance with speculative position limits adopted by the Commission. These regulations are promulgated pursuant to the Commission's rulemaking authority contained in sections 4a(a), 4i, and 8a(5) of the Commodity Exchange Act, 7 U.S.C. 6a(1), 6i, and 12a(5).

An agency may not conduct or sponsor, and a person is not required to respond to, a collection of information unless it displays a currently valid OMB control number. The OMB control numbers for the referenced CFTC regulations were published on December 30, 1981. See 46 FR 63035 (Dec. 30, 1981). The Federal Register notice with a 60-day comment period soliciting comments on this collection of information was published on January 22, 2008 (73 FR 3705).

Burden statement: The Commission estimates the burden of this collection of information as follows:

Estimated Annual Reporting Burden
Regulations (17 CFR) | Estimated number of respondents | Reports annually by each respondent | Total annual responses | Estimated number of hours per response | Annual burden
Rule 1.47 and 1.48 | 7 | 2 | 14 | 3 | 42
Part 150 | 2 | 1 | 2 | 3 | 6

There are no capital costs or operating and maintenance costs associated with this collection.

Send comments regarding the burden estimated or any other aspect of the information collection, including suggestions for reducing the burden, to the addresses listed below. Please refer to OMB Control No. 3038-0013 in any correspondence.

Gary Martinaitis, Division of Market Oversight, Commodity Futures Trading Commission, 1155 21st Street, NW., Washington, DC 20581; and

Office of Information and Regulatory Affairs, Office of Management and Budget, Attention: Desk Officer for CFTC, 725 17th Street, Washington, DC 20503.

Dated: March 25, 2008.
David A. Stawick,
Secretary of the Commission.

[FR Doc. E8-6490 Filed 3-27-08; 8:45 am]

BILLING CODE 6351-01-P